DEPARTMENT OF COMMERCE

International Trade Administration

Export Trade Certificate of Review

ACTION: Notice of application.

SUMMARY: Export Trading Company Affairs (“ETCA”), International Trade Administration, Department of Commerce, has received an application for an Export Trade Certificate of Review (“Certificate”). This notice summarizes the conduct for which certification is sought and requests comments relevant to whether the Certificate should be issued.

FOR FURTHER INFORMATION CONTACT: Jeffrey Anspacher, Director, Export Trading Company Affairs, International Trade Administration, by telephone at (202) 482-5131 (this is not a toll-free number) or e-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether a Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Export Trading Company Affairs, International Trade Administration, U.S. Department of Commerce, Room 7021-B H, Washington, DC 20230. Information submitted by any person is exempt from disclosure under the Freedom of Information Act (5 U.S.C. 552). However, nonconfidential versions of the comments will be made available to the applicant if necessary for determining whether or not to issue the Certificate. Comments should refer to this application as “Export Trade Certificate of Review, application number 06-00003.” A summary of the application follows.

Summary of the Application

Applicant: American Sugar Alliance (“ASA”). 2111 Wilson Boulevard, Suite 600. Arlington, VA 22201.

Contact: Robert C. Cassidy, Jr. Counsel for ASA.

Telephone: (202) 663-6740.

Application No.: 06-00003.

Date Deemed Submitted: December 14, 2006,

Members (in addition to applicant)

ASA Executive Committee: American Sugarbeet Growers Association, American Sugar Cane League, Florida Sugar Cane League, Inc., Gay & Robinson, Inc., Hawaiian Commercial & Sugar Co., Rio Grande Valley Sugar Growers Inc., Sugar Cane Growers Cooperative of Florida, U.S. Beet Sugar Association, and

Sugar Beet Processors and Cane Sugar Refiners (“Producers”): Amalgamated Sugar Company LLC (owned by Snake River Sugar Company), American Sugar Refining Inc. (owned by Florida Crystals Corporation and the Sugar Cane Growers Cooperative of Florida), American Crystal Sugar Company and Sidney Sugars (a subsidiary of American Crystal Sugar Company), Florida Crystals Corporation, Hawaiian Commercial & Sugar Company, Imperial Sugar Company, Michigan Sugar Company, Minn-Dak Farmers Cooperative, Southern Minnesota Beet Sugar Cooperative and Spreckels Sugar Company (a subsidiary of Southern Minnesota Beet Sugar Cooperative), U.S. Sugar Corporation, Western Sugar Cooperative and Wyoming Sugar Company LLC.

Under the proposed Export Trade Certificate of Review, ASA would allocate Certificates of Prior Approval (“CPAs”) to Producers, permitting duty-free entry of U.S. sugar into Mexico under the tariff-rate quota (“TRQ”) for U.S.-origin sugar.

ASA seeks an Export Trade Certificate of Review to cover the following specific Export Trade, Export Markets, and Export Trade Activities and Methods of Operation.

Export Trade

Products

U.S.-origin sugar and syrups meeting the following definitions:

H.S. Code | Description
1701.11.01 | Sugar, with a dry sucrose content that has polarization of 99.4 but not exceeding 99.5 degrees.
1701.11.02 | Sugar, with a dry sucrose content that has polarization of 96 but not exceeding 99.4 degrees.
1701.11.03 | Sugar, with a dry sucrose content that has polarization of 96 degrees.
1701.12.01 | Sugar, with a dry sucrose content that has polarization of 99.4 but not exceeding 99.5 degrees.
1701.12.02 | Sugar, with a dry sucrose content that has polarization of 96 but not exceeding 99.4 degrees.
1701.12.03 | Sugar, with a dry sucrose content that has polarization of 96 degrees.
1701.91.01 | Containing added flavoring or coloring matter.
1701.99.01 | Sugar, with a dry sucrose content that has polarization of 99.5 but not exceeding 99.7 degrees.
1701.99.02 | Sugar, with a dry sucrose content that has polarization of 99.7 but not exceeding 99.9 degrees.
1701.99.99 | Others.
1701.90.01 | Refined liquid sugar and inverted sugar.
1806.10.01 | With a sugar content weighting not less than 90%.
2106.90.05 | Flavored syrups or with added coloring matters (except syrups which have a sugar content less than 90%).

Export Markets

U.S.-origin sugar for which Certificates of Prior Approval (“CPAs”) are allocated will be exported only to Mexico.

Export Trade Activities and Methods of Operation

The ASA will allocate CPAs to any Producer that requests CPAs.

CPA Administration

The ASA will allocate all CPAs at one time. In the event that any CPAs are returned to ASA for any reason, ASA will reallocate those CPAs among interested Producers.

Certificate System

Under the procedures for the TRQ published on October 16, 2006, in the Mexican Diario Oficial, an importer in Mexico must file with the Mexican Government a CPA issued by ASA to obtain a license to allow U.S.-origin sugar to enter into Mexico free of duty under the TRQ. The ASA shall allocate CPAs among all Producers who express an interest in obtaining the CPAs, based on each Producer's share of total U.S. sugar refining capacity in 2006, as reported to ASA. The ASA shall issue CPAs to such Producers.

CPAs issued by ASA shall be freely transferable by Producers. Transfers of CPAs after they are issued by ASA will be subject to the normal application of antitrust laws.

Confidential Information

Each Member may provide to the ASA information regarding its capacity to produce refined sugar in the United States for the purpose of calculating the allocation of CPAs.

Allocation of CPAs will not involve any agreement or exchange of sensitive information among Members. Annual U.S. refining capacity information is currently available to the ASA, and no further information should be necessary. If additional information should be required, and this information is non-public, company-specific business information, ASA shall consider the information to be “confidential”, and ASA shall maintain its confidentiality. ASA shall not disclose this confidential information to any party other than the submitter, or to any officers, agents, or employees of any party other than the submitter, and shall not disclose confidential information to any other person except to another neutral third party as necessary to make the determination for which the information was submitted, to allocate CPAs, or in connection with reports to the Department of Commerce as required by the Export Trade Certificate of Review or the arbitration of a dispute.

Cooperation With the U.S. and Mexican Governments

The ASA will consult with the U.S. Government and the Government of Mexico when necessary and provide to them whatever information may be useful in order to facilitate cooperation between the governments concerning the implementation and operation of the CPA System. Furthermore, directly or through the U.S. Government, the ASA will endeavor to accommodate any information requests from the Government of Mexico (while protecting confidential information entrusted to the ASA), and will consult with the Government of Mexico as appropriate.

Dated: December 19, 2006.
Jeffrey Anspacher,
Director, Export Trading Company Affairs.

[FR Doc. E6-22053 Filed 12-22-06; 8:45 am]

BILLING CODE 3510-DR-P